OFFICE OF PERSONNEL MANAGEMENT

Submission for Reinstatement: 3206-0264, Application for U.S. Flag Recognition Benefit for Deceased Federal Civilian Employees, OPM 1825

AGENCY: U.S. Office of Personnel Management.

ACTION: 60-Day Notice and request for comments.

SUMMARY: The Office of Personnel Management (OPM) offers the general public and other federal agencies the opportunity to comment on the reinstatement of an information collection request (ICR) 3206-0264, Application for U.S. Flag Recognition Benefit for Deceased Federal Civilian Employees.

DATES: Comments are encouraged and will be accepted until September 13, 2022. This process is conducted in accordance with 5 CFR 1320.1.

ADDRESSES: Interested persons are invited to submit written comments on the proposed information collection via the Federal Rulemaking Portal: http://www.regulations.gov. All submissions received must include the agency name and docket number for this Federal Register document. The general policy for comments and other submissions from members of the public is to make those submissions available for public viewing on the internet at http://www.regulations.gov as they are received without change, including any personal identifiers or contact information.

FOR FURTHER INFORMATION CONTACT: A copy of this ICR, with applicable supporting documentation, may be obtained by contacting Senior Executive Service and Performance Management, Office of Personnel Management, 1900 E. Street NW, Suite 7412, Washington, DC 20415, Attention: Chanel Jackson or via electronic mail to chanel.jackson@opm.gov or by phone at 202-936-3022.

SUPPLEMENTARY INFORMATION: As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Civilian Service Recognition Act of 2011 (Pub. L. 112-73) authorizes an agency to furnish a United States flag on behalf of employees who die of injuries incurred in connection with their employment under specified circumstances. The U.S. Office of Personnel Management (OPM) is issuing guidance and proposed regulations to implement the Civilian Service Recognition Act of 2011. The guidance and proposed regulations will assist agencies in administering a United States flag recognition benefit for fallen Federal civilian employees. The guidance and proposed regulations describe the eligibility requirements and procedures to request a flag.

OPM Form OPM 1825, Application for U.S. Flag Recognition Benefit for Deceased Federal Civilian Employees, may be used to determine deceased Federal employee and beneficiary (e.g., family member of a deceased employee) eligibility for issuance of a U.S. flag. The form may be used by any Federal entity and use of the form is at agency discretion. Agencies may use an electronic version of the form when the agency is equipped to accept electronic signatures.

Analysis

Agency: Office of Personnel Management.

Title: Application for U.S. Flag Recognition Benefit for Deceased Federal Civilian Employees.

OMB Number: 3260-0264.

Frequency: Annually.

Affected Public: Individuals or households.

Number of Respondents: 10.

Estimated Time per Respondent: 10 minutes/hour.

Total Burden Hours: 2 hours.

U.S. Office of Personnel Management.
Stephen Hickman,
Federal Register Liaison.

[FR Doc. 2022-15125 Filed 7-14-22; 8:45 am]

BILLING CODE 6325-39-P